DEPARTMENT OF COMMERCE

Submission for OMB Review; Comment Request; Entity List Requests

The Department of Commerce will submit to the Office of Management and Budget (OMB) for clearance the following proposal for collection of information under the provisions of the Paperwork Reduction Act (44 U.S.C. Chapter 35).

Agency: Bureau of Industry and Security.

Title: Entity List Requests.

Form Number(s): N/A.

OMB Control Number: 0694-0134.

Type of Request: Regular.

Burden Hours: 105 hours.

Number of Respondents: 7 respondents.

Average Hours Per Response: 15 hours per response.

Needs and Uses: This collection is needed to provide a procedure for persons or organizations listed on the Entity List to request removal or modification of the entry that affects them. The Entity List appears at 15 CFR part 744, Supp. No. 4. The Entity List is used to inform the public of certain parties whose presence in a transaction that is subject to the Export Administration Regulations (15 CFR 730-799) requires a license from the Bureau of Industry and Security (BIS).

Affected Public: Businesses and other for-profit and not-for-profit institutions.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2016-31162 Filed 12-23-16; 8:45 am]

BILLING CODE 3510-33-P